ENVIRONMENTAL PROTECTION AGENCY

[EPA-HQ-OLEM-2018-0105; FRL-9982-63-OEI]

Information Collection Request Submitted to OMB for Review and Approval; Comment Request; Oil Pollution Act Facility Response Plan Requirements (Renewal)

AGENCY: Environmental Protection Agency (EPA).

ACTION: Notice.

SUMMARY: The Environmental Protection Agency (EPA) has submitted an information collection request (ICR), Oil Pollution Act Facility Response Plans (EPA ICR No. 1630.13, OMB Control No. 2050-0135) to the Office of Management and Budget (OMB) for review and approval in accordance with the Paperwork Reduction Act. This is a proposed extension of the ICR, which is currently approved through August 31, 2018. Public comments were previously requested via the Federal Register on March 21, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 24, 2018.

ADDRESSES: Submit your comments, referencing Docket ID No. EPA-HQ-OLEM-2018-0105 to (1) EPA online using www.regulations.gov (our preferred method) or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Troy Swackhammer, Office of Land and Emergency Management, Environmental Protection Agency, 1200 Pennsylvania Ave. NW, Washington, DC 20460; telephone number: 202-564-1966; email address: Swackhammer.j-Troy@Epa.gov.

SUPPLEMENTARY INFORMATION: Supporting documents, which explain in detail the information that the EPA will be collecting are available, in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The authority for EPA's facility response plan (FRP) requirements is derived from section 311(j)(5) of the Clean Water Act, as amended by the Oil Pollution Act of 1990. EPA's regulation is codified at 40 CFR 112.20 and 112.21 and related appendices. The purpose of an FRP is to help an owner or operator identify the necessary resources to respond to an oil spill in a timely manner. If implemented effectively, the FRP will reduce the impact and severity of oil spills and may prevent spills because of the identification of risks at the facility. Although the owner or operator is the primary data user, EPA also uses the data in certain situations to ensure that facilities comply with the regulation and to help allocate response resources. State and local governments may use the data, which are not generally available elsewhere and can greatly assist local emergency preparedness planning efforts. The EPA reviews all submitted FRPs and must approve FRPs for those facilities whose discharges may cause significant and substantial harm to the environment in order to ensure that facilities believed to pose the highest risk have planned for adequate resources and procedures to respond to a spill. None of the information collected under the FRP rule is believed to be confidential. The EPA has provided no assurances of confidentiality to facility owners or operators when they file their FRPs.

Form Numbers: None.

Respondents/affected entities: Owner or operator of a facility that is required to have a Spill Prevention, Control, and Countermeasure (SPCC) plan under the Oil Pollution Prevention regulation (40 CFR part 112) and that could cause substantial harm to the environment, and must prepare and submit an FRP to EPA. The applicability criteria for a substantial harm facility are: (1) The facility transfers oil over water to or from a vessel and has a total storage capacity of greater than or equal to 42,000 gallons; or (2) the facility's total oil storage capacity is greater than or equal to one million gallons and one or more of the following harm factors are met: Insufficient secondary containment for aboveground storage tanks at the facility; a discharge of oil could impact fish and wildlife and sensitive environments; a discharge of oil could shut down a drinking water intake; the facility has experienced a reportable oil discharge of 10,000 gallons or more in last 5 years; or other factors considered by the Regional Administrator.

Respondent's obligation to respond: Mandatory under section 311(j)(5) of the Clean Water Act, as amended by the Oil Pollution Act of 1990.

Estimated number of respondents: 22,274 (total).

Frequency of response: Less than once per year.

Total estimated burden: 382,682 hours (per year). Burden is defined at 5 CFR 1320.03(b).

Total estimated costs: $16,205,238 (per year), which includes $3,355 annualized capital or operation & maintenance costs.

Changes in Estimates: There is a decrease of 73,061 hours in the total estimated respondent burden compared with the ICR currently approved by OMB. This estimate is based on EPA's current inventory of facilities that have submitted and are maintaining an FRP as per 40 CFR part 112. EPA has not amended the FRP regulation since the last ICR renewal that would affect the per-facility burden.

Courtney Kerwin,
Director, Regulatory Support Division.

[FR Doc. 2018-18340 Filed 8-23-18; 8:45 am]

BILLING CODE 6560-50-P